DEPARTMENT OF HOMELAND SECURITY

Federal Emergency Management Agency

44 CFR Part 65

[Docket No. FEMA-P-7632]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and record keeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Illinois:
Adams (Case No. 03-05-5163P) | Unincorporated Areas | December 3, 2003, December 10, 2003, Quincy Herald-Whig | Mr. Mike McLaughlin, Adams County Board Chairman, Adams County Courthouse, 507 Vermont Street, Quincy, IL 62301 | Mar. 10, 2004 | 170001
Calhoun (Case No. 03-05-5163P) | Unincorporated Areas | December 3, 2003, December 10, 2003, Calhoun News-Herald | Mr. Vince Tepen, Chairman, Calhoun County Board of Commissioners, P.O. Box 187, Hardin, IL 62047 | Mar. 10, 2004 | 170018
Madison (Case No. 03-05-5172P) | Village of Hartford | November 19, 2003, November 26, 2003, The Telegraph | The Honorable William Moore, Jr., Mayor, Village of Hartford, 140 West Hawthorne, Hartford, IL 62048 | Dec. 8, 2003 | 170444
Pike (Case No. 03-05-5163P) | Village of Hull | December 2, 2003, December 9, 2003, The Paper | The Honorable Kirk Rued, Mayor, Village of Hull, Hull Village Hall, P.O. Box 70, Hull, IL 62343 | Mar. 10, 2004 | 170553
Madison (Case No. 03-05-5172P) | Unincorporated Areas | November 19, 2003, November 26, 2003, The Telegraph | The Honorable Alan J. Dunstan, Madison County Board Chairman, Madison County Administration Building, 157 N. Main Street, Suite 165, Edwardsville, IL 62025-1963 | Dec. 8, 2003 | 170436
Pike (Case No. 03-05-5163P) | Unincorporated Areas | December 3, 2003, December 10, 2003, The Pike Press | Mr. Scott Syrcle, Pike County Board Chairman, 100 East Washington Street, Pittsfield, IL 62363 | Mar. 10, 2004 | 170551
Pike (Case No. 03-05-5163P) | Village of Pleasant Hill | December 3, 2003, December 10, 2003, The Pike Press | Mr. William R. Graham, President, Village of Pleasant Hill, Village Hall, 104 West Quincy Street, Pleasant Hill, IL 62366 | Mar. 10, 2004 | 170558
Madison (Case No. 03-05-5172P) | Village of Roxana | November 19, 2003, November 26, 2003, The Telegraph | The Honorable Fred Hubbard, President, Village of Roxana, 400 South Central Avenue, Roxana, IL 62084 | Dec. 8, 2003 | 170448
Iowa: Johnson (Case No. 03-07-105P) | City of Coralville | November 7, 2003, November 14, 2003, Iowa City Press-Citizen | The Honorable Jim Fausett, Mayor, City of Coralville, 1512 7th Street, Coralvillle, IA 52241 | Feb. 13, 2004 | 190169
Kansas: Douglas (Case No. 03-07-1276P) | City of Lawrence | November 7, 2003, November 14, 2003, Lawrence Journal World | The Honorable David M. Dunfield, Mayor, City of Lawrence, 6 East 6th Street, Lawrence, KS 66044 | Feb. 13, 2004 | 200090
Michigan: Oakland (Case No. 03-05-0535P) | City of Troy | December 4, 2003, December 11, 2003, The Troy Times | The Honorable Matt Pryor, Mayor, City of Troy, 500 West Big Beaver Road, Troy, MI 48084 | Mar. 11, 2004 | 260180
Minnesota:
Le Sueur (Case No. 03-05-1835P) | City of New Prague | December 4, 2003, December 11, 2003, The New Prague Times | The Honorable Craig Sindelar, Mayor, City of New Prague, City Hall, 118 Central Avenue, New Prague, MN 56071 | Mar. 11, 2004 | 270249
Sherburne (Case No. 03-05-3980P) | Unincorporated Areas | December 19, 2003, December 26, 2003, St. Cloud Times | Mr. Brian Bensen, Sherburne County Administrator, Sherburne County Government Center, 13880 Highway 10, Elk River, MN 55330 | Dec. 3, 2003, | 270435
New Mexico:
Bernalillo, (Case No. 03-06-1742P) | City of Albuquerque | November 6, 2003, November 13, 2003, Albuquerque Journal | The Honorable Martin Chavez, Mayor, City of Albuquerque, P.O. Box 1293, Albuquerque, NM 87103 | Oct. 21, 2003 | 350002
Bernalillo (Case No. 03-06-1742P) | Unincorporated Areas | November 6, 2003, November 13, 2003, Albuquerque Journal | Mr. Tom Rutherford, Chairman, Bernalillo County, One Civic Plaza N.W., Albuquerque, NM 87102 | Oct. 21, 2003 | 350001
Bernalillo (Case No. 04-06-246P) | City of Albuquerque | December 22, 2003, December 29, 2003, Albuquerque Journal | The Honorable Martin Chavez, Mayor, City of Albuquerque, P.O. Box 1293, Albuquerque, NM 87103 | Nov. 20, 2003 | 350002
Bernalillo (Case No. 04-06-242P) | City of Albuquerque | December 22, 2003, December 29, 2003, Albuquerque Journal | The Honorable Martin Chavez, Mayor, City of Albuquerque, P.O. Box 1293, Albuquerque, NM 87103 | Nov. 20, 2003 | 350002
Bernalillo (Case No. 04-06-241P) | City of Albuquerque | December 22, 2003, December 29, 2003, Albuquerque Journal | The Honorable Martin Chavez, Mayor, City of Albuquerque, P.O. Box 1293, Albuquerque, NM 87103 | Nov. 20, 2003 | 350002
Bernalillo (Case No. 04-06-245P) | City of Albuquerque | December 22, 2003, December 29, 2003, Albuquerque Journal | The Honorable Martin Chavez, Mayor, City of Albuquerque, P.O. Box 1293, Albuquerque, NM 87103 | Nov. 20, 2003 | 350002
Bernalillo (Case No. 04-06-243P) | Unincorporated Areas | December 22, 2003, December 29, 2003, Albuquerque Journal | Mr. Tom Rutherford, Chairman, Bernalillo County, One Civic Plaza, N.W., Albuquerque, NM 87102 | Dec. 4, 2003 | 350001
Bernalillo (Case No. 04-06-241P) | Unincorporated Areas | December 22, 2003, December 29, 2003, Albuquerque Journal | Mr. Tom Rutherford, Chairman, Bernalillo County, One Civic Plaza, NW., Albuquerque, NM 87102 | Nov. 20, 2003 | 350001
Bernalillo (Case No. 04-06-242P) | Unincorporated Areas | December 22, 2003, December 29, 2003, Albuquerque Journal | Mr. Tom Rutherford, Chairman, Bernalillo County, One Civic Plaza, NW., Albuquerque, NM 87102 | Nov. 20, 2003 | 350001
Ohio:
Allen (Case No. 03-05-0444P) | Allen County | December 22, 2003, December 29, 2003, The Lima News | Mr. Fred Eldridge, Allen County Administrator, 301 North Main, Lima, OH 45802 | Mar. 29, 2004 | 390758
Delaware (Case No. 03-05-2574P) | Village of Powell | November 19, 2003, November 26, 2003, Olentangy Valley News | The Honorable Art Schultz, Mayor, Village of Powell, 47 Hall Street, Powell, OH 43065 | Feb. 25, 2004 | 390626
Oklahoma:
Oklahoma (Case No. 03-06-691P) | Unincorporated Areas | November 18, 2003, November 25, 2003, The Daily Oklahoman | Mr. Stan Inman, Chairman, Oklahoma County, Commission, 320 Robert S. Kerr Avenue, Suite 621, Oklahoma City, OK 73102 | Feb. 24, 2004 | 400466
Rogers (Case No. 03-06-1392P) | Unincorporated Areas | August 29, 2003, September 5, 2003, Claremore Daily Progress | Mr. Gerry Payne, Chairman, Rogers County, Board of Commissioners, 219 South Missouri, Claremore, OK 74017 | Sept. 12, 2003 | 405379
Tulsa (Case No. 03-06-831P) | City of Tulsa | November 18, 2003, November 25, 2003, Tulsa World | The Honorable Bill LaFortune, Mayor, City of Tulsa, City Hall, 200 Civic Center, Tulas, OK 74103 | Nov. 5, 2003 | 405381
Texas:
Johnson (Case No. 03-06-1544P) | City of Burleson | December 3, 2003, December 10, 2003, The Burleson Star | The Honorable Byron Black, Mayor, City of Burleson, 141 West Renfo, Burleson, TX 76028 | Mar. 10, 2004 | 485459
Dallas (Case No. 03-06-838P) | City of Carrollton | November 14, 2003, November 21, 2003, Northwest Morning News | The Honorable Mark Stokes, Mayor, City of Carrollton, 1945 E. Jackson Road, Carrollton, TX 75006 | Oct. 30, 2003 | 480167
Harris (Case No. 03-06-405P) | Unincorporated Areas | November 11, 2003, November 18, 2003, The Houston Chronicle | The Honorable Robert A. Eckels, Judge, Harris County, 1001 Preston, Suite 911, Houston, TX 77002 | Feb. 17, 2004 | 480287
Hidalgo (Case No. 03-06-1738P) | Unincorporated Areas | December 10, 2003, December 17, 2003, Edinburg Daily Review | The Honorable Ramon Garcia, Judge, Hidalgo County, 100 East Cano Street, Edinburg, TX 78539 | Mar. 17, 2004 | 480334
Harris (Case No. 03-06-405P) | City of Houston | November 11, 2003, November 18, 2003, The Houston Chronicle | The Honorable Lee P. Brown, Mayor, City of Houston, P.O. Box 1562, Houston, TX 77251 | Feb. 17, 2004 | 480296
Hays (Case No. 03-06-1735P) | City of Kyle | December 10, 2003, December 17, 2003, The Kyle Eagle | The Honorable James L. Adkins, Mayor, City of Kyle, 300 West Center, Kyle TX 78640 | Nov. 17, 2003 | 480108
Hidalgo (Case No. 03-06-1738P) | City of La Joya | December 10, 2003, December 17, 2003, Edinburg Daily Review | The Honorable Billy Leo, Mayor, City of La Joya, 100 West Expressway 83, La Joya, TX 78560 | Mar. 17, 2004 | 480341
Midland (Case No. 03-06-2541P) | City of Midland | November 12, 2003, November 19, 2003, Midland Reporter-Telegram | The Honorable Michael J. Canon, Mayor, City of Midland, 300 North Loraine, Midland, TX 79701 | Oct. 21, 2003 | 480477
Harris (Case No. 03-06-1531P) | City of Pasadena | November 11, 2003, November 18, 2003, The Pasadena Citizen | The Honorable John Manlove, Mayor, City of Pasadena, City Hall, 1211 Southmore, Pasadena, TX 77502 | Feb. 17, 2004 | 480307
Dallas (Case No. 03-06-427P) | City of Richardson | December 4, 2003, December 11, 2003, The Richardson Morning News | The Honorable Gary A. Slagel, Mayor, City of Richardson, P.O. Box 830309, Richardson, TX 75083-0309 | Nov. 12, 2003 | 480184
Bexar (Case No. 03-06-039P) | City of San Antonio | December 5, 2003, December 12, 2003, San Antonio Express News | The Honorable Ed Garza, Mayor, City of San Antonio, P.O. Box 839966, San Antonio, TX 78283-3966 | Mar. 12, 2004 | 480045

(Catalog of Federal Domestic Assistance No. 83.100, “Flood Insurance”)
Dated: February 3, 2004.
Anthony S. Lowe,
Mitigation Division Director, Emergency Preparedness and Response Directorate.

[FR Doc. 04-2788 Filed 2-9-04; 8:45 am]

BILLING CODE 6718-04-P